NUCLEAR REGULATORY COMMISSION

[Docket No. 40-9075-MLA]

Atomic Safety and Licensing Board; Notice (Regarding Weapons at Atomic Safety and Licensing Board Proceedings)

Before Administrative Judges: William J. Froehlich, Chairman, Dr. Richard F. Cole, Dr. Mark O. Barnett.

In the Matter of Powertech USA, Inc. (Dewey-Burdock In Situ Uranium Recovery Facility).

ASLBP No. 10-898-02-MLA-BD01.

July 31, 2014.

Take notice that the rules regarding weapons in the U.S. Courthouse and United States Federal Building in the State of South Dakota shall apply to all proceedings conducted by the Atomic Safety and Licensing Board of the U.S. Nuclear Regulatory Commission.

No person other than federal law enforcement, Fall River County Sheriff's Department, Hot Springs Police Department, Rapid City Police Department or other authorized law enforcement organization while performing official duties, shall wear or otherwise carry a firearm, edged weapon, impact weapon, electronic control device, chemical weapon, ammunition, or other dangerous weapon into the Limited Appearance Sessions scheduled at the Mueller Civic Center on August 18, 2014 or the evidentiary hearing scheduled at the Hotel Alex Johnson, beginning on August 19, 2014.

That this order shall not apply to local law enforcement officers responding to a call for assistance from within the Mueller Civic Center or the Hotel Alex Johnson.

It is so ordered.

Dated: July 31, 2014.
The Atomic Safety and Licensing Board, Rockville, Maryland.
William J. Froehlich,
Chair, Administrative Judge.

[FR Doc. 2014-18628 Filed 8-5-14; 8:45 am]

BILLING CODE 7590-01-P